FEDERAL COMMUNICATIONS COMMISSION

47 CFR Part 27

[GN Docket No. 18-122; FCC 20-22; FRS 17546]

Expanding Flexible Use of the 3.7 to 4.2 GHz Band

AGENCY: Federal Communications Commission.

ACTION: Final rule; announcement of compliance date.

SUMMARY: In this document, the Commission announces that the Office of Management and Budget has approved the information collection requirements associated with the rules adopted in the Federal Communications Commission's 3.7 GHz Report and Order, FCC 20-22, 3.7 GHz requiring service licensees to comply with certain technical rules and coordination practices designed to reduce the risk of interference to incumbent operations. This document is consistent with the 3.7 GHz Report and Order, FCC 20-22, which states that the Commission will publish a document in the Federal Register announcing a compliance date for the new rule sections.

DATES: Compliance with 47 CFR 27.1424 and paragraph 384 of the 3.7 GHz Report and Order published at 85 FR 22804 on April 23, 2020, is required on March 10, 2021.

FOR FURTHER INFORMATION CONTACT: Anna Gentry, Mobility Division, Wireless Telecommunications Bureau, at (202) 418-7769 or Anna.Gentry@fcc.gov.

SUPPLEMENTARY INFORMATION: This document announces that the Office of Management and Budget (OMB) approved the information collection requirements in 47 CFR 27.1424 and paragraph 384 of the 3.7 GHz Report and Order. This rule was adopted in the 3.7 GHz Report and Order, FCC 20-22, published at 85 FR 22804 on April 23, 2020. The Commission publishes this document as an announcement of the compliance date for this new rule. OMB approval for all other new or amended rules for which OMB approval is required will be requested, and compliance is not yet required for those rules. Compliance with all new or amended rules adopted in the 3.7 GHz Report and Order that do not require OMB approval is required as of June 22, 2020, see 85 FR 22804 (Apr. 23, 2020). If you have any comments on the burden estimates listed below, or how the Commission can improve the collections and reduce any burdens caused thereby, please contact Cathy Williams, Federal Communications Commission, 45 L Street NE, Washington, DC 20554, regarding OMB Control Number 3060-1281. Please include the OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on March 1, 2021, for the information collection requirements contained in 47 CFR 27.1424 and paragraph 384 of the 3.7 GHz Report and Order. Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 27.1424 and paragraph 384 of the 3.7 GHz Report and Order is 3060-1281.

The foregoing notice is required by the Paperwork Reduction Act of 1995, Public Law 104-13, October 1, 1995, and 44 U.S.C. 3507.

The total annual reporting burdens and costs for the respondents are as follows:

OMB Control Number: 3060-1281.

OMB Approval Date: March 1, 2021.

OMB Expiration Date: March 31, 2024.

Title: 3.7 GHz Service Licensee and Earth Station Operator Agreements; 3.7 GHz Licensee Engineering Analysis.

Form Number: N/A.

Respondents: Business or other for-profit entities; Not for profit institutions; State, Local or Tribal Government.

Number of Respondents and Responses: 30 respondents; 30 responses.

Estimated Time per Response: 2 hours to 5 hours.

Frequency of Response: Recordkeeping requirement; on occasion reporting requirements; third party disclosure requirement.

Obligation To Respond: Required to obtain or retain benefits. The statutory authority for this collection of information is contained in sections 1, 2, 4(i), 4(j), 5(c), 201, 302, 303, 304, 307(e), 309, and 316 of the Communications Act of 1934, as amended, 47 U.S.C. 151, 152, 154(i), 154(j), 155(c), 201, 302, 303, 304, 307(e), 309, and 316.

Total Annual Burden: 120 hours.

Total Annual Cost: No cost.

Privacy Act Impact Assessment: No impact(s).

Nature and Extent of Confidentiality: The information collected under this collection will be made publicly available. However, to the extent information submitted pursuant to this information collection is determined to be confidential, it will be protected by the Commission. If a respondent seeks to have information collected pursuant to this information collection withheld from public inspection, the respondent may request confidential treatment pursuant to § 0.459 of the Commission's rules for such information.

Needs and Uses: On February 28, 2020, in furtherance of the goal of releasing more mid-band spectrum into the market to support and enabling next-generation wireless networks, the Commission adopted a Report and Order, FCC 20-22, (3.7 GHz Report and Order), in which it reformed the use of the 3.7-4.2 GHz band, also known as the C-band. Currently, the 3.7-4.2 GHz band is allocated in the United States exclusively for non-Federal use on a primary basis for Fixed Satellite Service (FSS) and Fixed Service. The 3.7 GHz Report and Order calls for the relocation of existing FSS operations in the band into the upper 200 megahertz of the band (4.0-4.2 GHz) and making the lower 280 megahertz (3.7-3.98 GHz) available for flexible use throughout the contiguous United States through a Commission-administered public auction of overlay licenses.

The Commission concluded in the 3.7 GHz Report and Order that, once this transition is complete, coordination measures are needed to protect incumbent C-band operations in the upper portion of the 3.7-4.2 GHz band. 3.7 GHz Service licensees are required to comply with certain technical rules and coordination practices designed to reduce the risk of interference to incumbent operations. Specifically, 3.7 GHz Service licensees are required to comply with specific power flux density (PFD) limits to protect incumbent earth stations from out-of-band emissions and blocking and to coordinate frequency usage with incumbent Telemetry, Tracking, and Command (TT&C) earth stations. The 3.7 GHz Report and Order allows 3.7 GHz Service licensees and C-Band earth station operators to modify these PFD limits, but it requires a 3.7 GHz Service licensee that is a party to such an agreement to maintain a copy of the agreement in its station files and disclose it, upon request, to prospective license assignees, transferees, or spectrum lessees, and to the Commission. The Commission also required any 3.7 GHz Service licensee with base stations located within the appropriate coordination distance to provide upon request an engineering analysis to the TT&C operator to demonstrate their ability to comply with the applicable −6 dB I/N criteria.

The information that will be collected under this new information collection is designed to ensure that 3.7 GHz Service licensees operate in a manner that ensures incumbent C-band operations in the upper portion of the 3.7-4.2 GHz band and TT&C operations in the 3700-3980 MHz band are protected. By requiring 3.7 GHz Service licensees to provide a copy of any private agreement with 3.7 GHz earth station operators to prospective license assignees, transferees, or spectrum lessees, and to the Commission, the Commission ensures that such agreements continue to protect incumbent C-band operations in the event a 3.7 GHz service license is subsequently transferred to a new licensee. This collection promotes the safety of operations in the band and reduces the risk of harmful interference to incumbents. It also ensures that relevant stakeholders have access to coordination agreements between 3.7 GHz Service licensees and entities operating earth stations or TT&C operations.

The information provided by the 3.7 GHz Service licensee to the TT&C operator ensures the protection of TT&C operations. The information collection will facilitate an efficient and safe transition by requiring 3.7 GHz Service licensees to demonstrate their ability to comply with the −6 dB I/N criteria, thereby minimizing the risk of interference.

Federal Communications Commission.
Marlene Dortch,
Secretary.

[FR Doc. 2021-04999 Filed 3-9-21; 8:45 am]

BILLING CODE 6712-01-P